DEPARTMENT OF TRANSPORTATION

Federal Aviation Administration

14 CFR Part 39

[Docket No. 2001-SW-38-AD; Amendment 39-12625; AD 2002-01-30]

RIN 2120-AA64

Airworthiness Directives; Eurocopter France Model SE 3130, SE 313B, SA 315B, SE 3160, SA 316B, SA 316C, SA 3180, SA 318B, SA 318C, and SA 319B Helicopters

AGENCY: Federal Aviation Administration, DOT.

ACTION: Final rule; request for comments.

SUMMARY: This amendment adopts a new airworthiness directive (AD) for Eurocopter France (ECF) Model SE 3130, SE 313B, SA 315B, SE 3160, SA 316B, SA 316C, SA 3180, SA 318B, SA 318C, and SA 319B helicopters with a certain main gearbox (MGB) installed. This action requires inspecting the magnetic plug for magnetic particles at specified intervals in addition to the MGB inspections currently required. This AD also requires, within 50 hours time-in-service (TIS), dye-penetrant inspecting the MGB bevel gear for a crack, and if a crack is found, replacing the cracked bevel gear with an airworthy bevel gear before further flight. This amendment is prompted by an MGB failure due to a cracked bevel gear. This condition, if not corrected, could result in failure of the MGB, loss of the main rotor drive, and subsequent loss of control of the helicopter.

DATES: Effective February 19, 2002.

Comments for inclusion in the Rules Docket must be received on or before April 2, 2002.

ADDRESSES: Submit comments in triplicate to the Federal Aviation Administration (FAA), Office of the Regional Counsel, Southwest Region, Attention: Rules Docket No. 2001-SW-38-AD, 2601 Meacham Blvd., Room 663, Fort Worth, Texas 76137. You may also send comments electronically to the Rules Docket at the following address: 9-asw-adcomments@faa.gov.

FOR FURTHER INFORMATION CONTACT: Ed Cuevas, Aviation Safety Engineer, FAA, Rotorcraft Directorate, Regulations Group, Fort Worth, Texas 76193-0111, telephone (817) 222-5355, fax (817) 222-5961.

SUPPLEMENTARY INFORMATION: The Direction Generale De L'Aviation Civile (DGAC), the airworthiness authority for France, notified the FAA that an unsafe condition may exist on ECF Model SE 3130, SE 313B, SA 315B, SE 3160, SA 316B, SA 316C, SA 3180, SA 318B, SA 318C, and SA 319B helicopters with certain MGBs installed. The DGAC advises of the discovery of a crack on the bevel gear installed on an Alouette helicopter, which may cause failure of the MGB, subsequent loss of the main rotor drive, and an auto-rotation landing.

ECF has issued Alert Telex 01.67 and 01.32, dated April 20, 2001, and Alert Service Bulletins 01.32 and 01.67, both dated July 18, 2001, specifying a dye-penetrant inspection of both bevel gear faces in the coupling areas of the bevel gear and the bevel gear housing assembly of the MGB. The DGAC classified these service bulletins as mandatory and issued ADs 2001-149-044(A) R1, 2001-178-058(A) R1, and 2001-179-061(A) R1, all dated August 8, 2001, to ensure the continued airworthiness of these helicopters in France.

These helicopter models are manufactured in France and are type certificated for operation in the United States under the provisions of 14 CFR 21.29 and the applicable bilateral agreement. Pursuant to the applicable bilateral agreement, the DGAC has kept the FAA informed of the situation described above. The FAA has examined the findings of the DGAC, reviewed all available information, and determined that AD action is necessary for products of this type design that may operate in the United States.

This unsafe condition may exist or develop on other helicopters of the same type designs with these certain MGBs installed. We are issuing this AD to prevent failure of an MGB due to a cracked bevel gear, loss of the main rotor drive, and subsequent loss of control of the helicopter. This AD requires inspecting the MGB magnetic plug for metal particles at intervals not to exceed 10 hours TIS. This AD also requires, within 50 hours TIS, dye-penetrant inspecting the bevel gear for a crack and, if a crack is found, replacing the unairworthy bevel gear with an airworthy bevel gear before further flight. Replacing a cracked bevel gear is terminating action for the requirements of this AD.

None of the eight MGBs affected by this action are currently installed on helicopters on the U.S. Register. All helicopters included in the applicability of this rule that have an affected MGB installed are currently operated by non-U.S. operators under foreign registry; therefore, they are not directly affected by this AD action. However, the FAA considers that this rule is necessary to ensure that the unsafe condition is addressed in the event that any of these affected MGBs are imported and installed on helicopters on the U.S. Register in the future.

Should an affected MGB be imported and installed on a helicopter on the U.S. Register in the future, it would require approximately ½ work hour to review the records for a certain MGB. If the affected MGB is present, the FAA estimates that it would take 30 work hours per helicopter to inspect the bevel gear. The average labor rate is $60 per work hour. Required parts would cost approximately $14,500 per helicopter to replace a cracked bevel gear. Based on these figures, the total cost impact of this AD would be $16,330, assuming one helicopter requires replacement of the bevel gear.

Since this AD action does not affect any helicopter that is currently on the U.S. register, it has no adverse economic impact and imposes no additional burden on any person. Therefore, notice and public procedures hereon are unnecessary and the amendment may be made effective in less than 30 days after publication in the Federal Register.

Comments Invited

Although this action is in the form of a final rule that involves requirements affecting flight safety and, thus, was not preceded by notice and an opportunity for public comment, comments are invited on this rule. Interested persons are invited to comment on this rule by submitting such written data, views, or arguments as they may desire. Communications should identify the Rules Docket number and be submitted in triplicate to the address specified under the caption ADDRESSES. All communications received on or before the closing date for comments will be considered, and this rule may be amended in light of the comments received. Factual information that supports the commenter's ideas and suggestions is extremely helpful in evaluating the effectiveness of the AD action and determining whether additional rulemaking action would be needed.

Comments are specifically invited on the overall regulatory, economic, environmental, and energy aspects of the rule that might suggest a need to modify the rule. All comments submitted will be available in the Rules Docket for examination by interested persons. A report that summarizes each FAA-public contact concerned with the substance of this AD will be filed in the Rules Docket.

Commenters wishing the FAA to acknowledge receipt of their mailed comments submitted in response to this rule must submit a self-addressed, stamped postcard on which the following statement is made: “Comments to Docket No. 2001-SW-38-AD.” The postcard will be date stamped and returned to the commenter.

The regulations adopted herein will not have a substantial direct effect on the States, on the relationship between the national Government and the States, or on the distribution of power and responsibilities among the various levels of government. Therefore, it is determined that this final rule does not have federalism implications under Executive Order 13132.

The FAA has determined that notice and prior public comment are unnecessary in promulgating this regulation; therefore, it can be issued immediately to correct an unsafe condition in aircraft since none of these model helicopters are registered in the United States. The FAA has also determined that this regulation is not a “significant regulatory action” under Executive Order 12866. It has been determined further that this action involves an emergency regulation under DOT Regulatory Policies and Procedures (44 FR 11034, February 26, 1979). If it is determined that this emergency regulation otherwise would be significant under DOT Regulatory Policies and Procedures, a final regulatory evaluation will be prepared and placed in the Rules Docket. A copy of it, if filed, may be obtained from the Rules Docket at the location provided under the caption ADDRESSES.

List of Subjects in CFR Part 39

Air transportation, Aircraft, Aviation safety, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

2002-01-30 Eurocopter France: Amendment 39-12625. Docket No. 20.1-SW-38-AD.

Applicability: Model SE 3130, SE 313B, SA 315B, SE 3160, SA 316B, SA 316C, SA 3180, SA 318B, SA 318C, and SA 319B, helicopters with a main gearbox (MGB), part number 319A62-00-000.4 with serial number M1242, M2194, M2516, NT3488, NT3563, 3-2888, 3-3091, or 3-11336, installed, certificated in any category.

Note 1: This AD applies to each helicopter identified in the preceding applicability provision, regardless of whether it has been otherwise modified, altered, or repaired in the area subject to the requirements of this AD. For helicopters that have been modified, altered, or repaired so that the performance of the requirements of this AD is affected, the owner/operator must request approval for an alternative method of compliance in accordance with paragraph (d) of this AD. The request should include an assessment of the effect of the modification, alteration, or repair on the unsafe condition addressed by this AD; and if the unsafe condition has not been eliminated, the request should include specific proposed actions to address it.

Compliance: Required as indicated, unless accomplished previously.

To prevent failure of the MGB due to a cracked bevel gear, loss of the main rotor drive, and subsequent loss of control of the helicopter, accomplish the following:

(a) At intervals not to exceed 10 hours time-in-service (TIS), inspect the MGB magnet plug for metal particles. This 10-hour inspection is in addition to those currently required by the maintenance manual.

(b) Within 50 hours TIS, dye-penetrant inspect both faces of the MGB bevel gear in the coupling area of the bevel gear shaft and in the coupling area of the bevel gear housing for a crack. If a crack is found, replace the unairworthy part with an airworthy part before further flight.

Note 2: Eurocopter France Alert Service Bulletins 01.32 and 01.67, both dated July 18, 2001, pertain to the subject of this AD.

(c) Completing the dye-penetrant inspection required by paragraph (b) of this AD and finding no cracks or replacing the bevel gear with an airworthy bevel gear is terminating action for the requirements of this AD.

(d) An alternative method of compliance or adjustment of the compliance time that provides an acceptable level of safety may be used if approved by the Manager, Regulations Group, Rotorcraft Directorate, FAA. Operators shall submit their requests through an FAA Principal Maintenance Inspector, who may concur or comment and then send it to the Manager, Regulations Group.

Note 3: Information concerning the existence of approved alternative methods of compliance with this AD, if any, may be obtained from the Regulations Group.

(e) Special flight permits may be issued in accordance with 14 CFR 21.197 and 21.199 to operate the helicopter to a location where the requirements of this AD can be accomplished.

(f) This amendment becomes effective on February 19, 2002.

Note 4: The subject of this AD is addressed in Direction Generale De L'Aviation Civile (France) ADs 2001-149-044(A) R1, 2001-178-058(A) R1, and 2001-179-061(A) R1, all dated August 8, 2001.

Issued in Fort Worth, Texas, on January 22, 2002.
Eric Bries,
Acting Manager, Rotorcraft Directorate, Aircraft Certification Service.

[FR Doc. 02-2423 Filed 1-31-02; 8:45 am]

BILLING CODE 4910-13-M